DEPARTMENT OF THE INTERIOR

Bureau of Reclamation

[RR83550000, 15XR0680A1, RX.31580001.0090104]

Agency Information Collection Activities Under OMB Review; Renewal of a Currently Approved Information Collection (OMB Control Number 1006-0005)

AGENCY: Bureau of Reclamation, Interior.

ACTION: Notice of renewal and request for comments.

SUMMARY: We, the Bureau of Reclamation, have forwarded the following Information Collection Request to the Office of Management and Budget (OMB) for review and approval: Individual Landholder's and Farm Operator's Certification and Reporting Forms for Acreage Limitation, 43 CFR part 426 and 43 CFR part 428 (OMB Control Number 1006-0005). The Information Collection Request describes the nature of the information collection and its expected cost burden.

DATES: OMB has up to 60 days to approve or disapprove this information collection request, but may respond after 30 days; therefore, public comments must be received on or before September 14, 2015.

ADDRESSES: Send written comments to the Desk Officer for the Department of the Interior at the Office of Management and Budget, Office of Information and Regulatory Affairs, via facsimile to (202) 395-5806, or email to oira_submission@omb.eop.gov. A copy of your comments should also be directed to Stephanie McPhee, Bureau of Reclamation, 84-55000, P.O. Box 25007, Denver, CO 80225-0007; or via email to smcphee@usbr.gov. Please reference OMB Control Number 1006-0005 in your comments.

FOR FURTHER INFORMATION CONTACT: Stephanie McPhee, Bureau of Reclamation, at (303) 445-2897. You may also view the Information Collection Request at www.reginfo.gov.

SUPPLEMENTARY INFORMATION:

I. Abstract

This information collection is required under the Reclamation Reform Act of 1982 (RRA), Acreage Limitation Rules and Regulations, 43 CFR part 426, and Information Requirements for Certain Farm Operations In Excess of 960 Acres and the Eligibility of Certain Formerly Excess Land, 43 CFR part 428. This information collection requires certain landholders (direct or indirect landowners or lessees) and farm operators to complete forms demonstrating their compliance with the acreage limitation provisions of Federal reclamation law. The forms in this information collection are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

II. Data.

OMB Control Number: 1006-0005.

Title: Individual Landholder's and Farm Operator's Certification and Reporting Forms for Acreage Limitation, 43 CFR part 426 and 43 CFR part 428.

Form Number: Form 7-2180, Form 7-2180EZ, Form 7-2181, Form 7-2184, Form 7-2190, Form 7-2190EZ, Form 7-2191, Form 7-2194, Form 7-21TRUST, Form 7-21PE, Form 7-21PE-IND, Form 7-21FARMOP, Form 7-21VERIFY, Form 7-21FC, Form 7-21XS, Form 7-21XSINAQ, Form 7-21CONT-I, Form 7-21CONT-L, Form 7-21CONT-O, and Form 7-21INFO.

Frequency: Annually.

Respondents: Landholders and farm operators of certain lands in our projects, whose landholdings exceed specified RRA forms submittal thresholds.

Estimated Annual Total Number of Respondents: 13,960.

Estimated Number of Responses per Respondent: 1.02.

Estimated Total Number of Annual Responses: 14,239.

Estimated Total Annual Burden on Respondents: 10,437 hours.

Estimated Completion Time per Respondent: See table below:

Form No. | Burden estimate per form (in minutes) | Number of respondents | Annual number of responses | Annual burden on respondents (in hours)
Form 7-2180 | 60 | 3,595 | 3,667 | 3,667
Form 7-2180EZ | 45 | 373 | 380 | 285
Form 7-2181 | 78 | 1,050 | 1,071 | 1,392
Form 7-2184 | 45 | 32 | 33 | 25
Form 7-2190 | 60 | 1,601 | 1,633 | 1,633
Form 7-2190EZ | 45 | 96 | 98 | 74
Form 7-2191 | 78 | 777 | 793 | 1,031
Form 7-2194 | 45 | 4 | 4 | 3
Form 7-21PE | 75 | 135 | 138 | 173
Form 7-21PE-IND | 12 | 4 | 4 | 1
Form 7-21TRUST | 60 | 694 | 708 | 708
Form 7-21VERIFY | 12 | 5,069 | 5,170 | 1,034
Form 7-21FC | 30 | 214 | 218 | 109
Form 7-21XS | 30 | 144 | 147 | 74
Form 7-21FARMOP | 78 | 172 | 175 | 228
Totals |  | 13,960 | 14,239 | 10,437

III. Request for Comments

We invite comments concerning this information collection on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

A Federal Register notice with a 60-day public comment period soliciting comments on this collection of information was published on February 17, 2015 (80 FR 8342). No comments were received.

IV. Public Disclosure

Before including your address, phone number, email address, or other personal identifying information in your comment, you should be aware that your entire comment—including your personal identifying information—may be made publicly available at any time. While you can ask us in your comment to withhold your personal identifying information from public review, we cannot guarantee that we will be able to do so.

Dated: July 27, 2015.
Roseann Gonzales,
Director, Policy and Administration.

[FR Doc. 2015-19913 Filed 8-12-15; 8:45 am]

BILLING CODE 4332-90-P